DEPARTMENT OF JUSTICE

Notice of Lodging of Consent Decree Pursuant to Resources Conservation and Recovery Act Sections 3008 and 7003 and Safe Drinking Water Act Section 1431

Notice is hereby given that on January 18, 2000, the United States lodged a proposed Consent Decree with the United States District Court for the District of New Mexico in the civil actions consolidated as Albuquerque v. Sparton Technology, Inc., No. CV 97 0206. The proposed Consent Decree resolves civil claims in the consolidated actions including the action filed by the United States, United States v. Sparton Technology, Inc., No. CV 97 0210 (D.N.M.), related to soil and groundwater contamination emanating from the Sparton Technology, Inc. (“Sparton”) manufacturing facility on Coors Road in Albuquerque, NM (“the Facility”). In this action, the United States alleged claims pursuant to Resource Conservation and Recovery Act (“RCRA”) Sections 3008 and 7003, 42 U.S.C. §§ 6928 and 6973, and Safe Drinking Water Act (“SDWA”) Section 1431, 42 U.S.C. § 300i. Under the proposed Consent Decree, Sparton will perform comprehensive corrective action to address groundwater and soil affected by contamination emanating from the Facility. Sparton will also pay a total of $1.675 million consisting of a civil penalty of $475,000 to be shared by the United States and the New Mexico Environment Department, a payment of natural resources damages of $1 million to the State of New Mexico, and $200,000 to the City of Albuquerque, the New Mexico Environment Department, and the New Mexico Attorney General's Office for litigation costs. The proposed Consent Decree also dismisses with prejudice Sparton Technology, Inc. v. Environmental Protection Agency, No. CV 97 0981 (D.N.M.)—one of the consolidated actions—and provides the United States a full release with respect to the agency actions challenged by Sparton in that case.

The Department of Justice will receive comments relating to the proposed Consent Decree for 30 days following publication of this Notice. Comments should be addressed to the Assistant Attorney General, Environment and Natural Resources Division, United States Department of Justice, P.O. Box 7611, Ben Franklin Station, Washington, DC 20044-7611, and should refer to Albuquerque v. Sparton Technology, Inc., No. CV 97 0206 (D.N.M.), DOJ No. 90-7-1-875. The proposed Consent Decree may be examined at the Office of the United States Attorney for the District of New Mexico, 200 3rd Street, NW., Ste 900, Albuquerque, New Mexico 87102 and the Region VI Office of the United States Environmental Protection Agency, 1445 Ross Avenue, Dallas, Texas 75202. A copy of the proposed Consent Decree may be obtained by mail from the Department of Justice Consent Decree Library, P.O. Box 7611, Washington, DC 20044. When requesting a copy, please enclose a check for reproduction costs for the Consent Decree (at 25 cents per page) in the amount of $153.75, payable to the “Consent Decree Library.''

Joel M. Gross,
Chief, Environmental Enforcement Section, Environment and Natural Resources Division.

[FR Doc. 00-1876 Filed 1-26-00; 8:45 am]

BILLING CODE 4410-15-M